DEPARTMENT OF TRANSPORTATION

Federal Aviation Administration

14 CFR Part 39

[Docket No. FAA-2018-0598; Product Identifier 2018-SW-030-AD]

RIN 2120-AA64

Airworthiness Directives; Bell Textron, Inc. (Type Certificate Previously Held by Bell Helicopter Textron, Inc.) Helicopters

AGENCY: Federal Aviation Administration (FAA), DOT.

ACTION: Notice of proposed rulemaking (NPRM).

SUMMARY: The FAA proposes to adopt a new airworthiness directive (AD) for certain Bell Textron, Inc. (Type Certificate previously held by Bell Helicopter Textron, Inc.) (Bell) Model 204B, 205A, 205A-1, 205B, 212, 214B, 214B-1, 412, 412CF, and 412EP helicopters. This proposed AD was prompted by a report of a shoulder harness seat belt comfort clip (comfort clip) interfering with the seat belt inertia reel. This proposed AD would require removing comfort clips from service and inspecting the seat belt shoulder harness (harness) for a rip or an abrasion. The FAA is proposing this AD to address the unsafe condition on these products.

DATES: The FAA must receive comments on this proposed AD by May 21, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Bell Textron, Inc., P.O. Box 482, Fort Worth, TX 76101; telephone 817-280-3391; fax 817-280-6466; or at https://www.bellcustomer.com. You may review the referenced service information at the FAA, Office of the Regional Counsel, Southwest Region, 10101 Hillwood Pkwy., Room 6N-321, Fort Worth, TX 76177.

Examining the AD Docket

You may examine the AD docket on the internet at https://www.regulations.gov by searching for and locating Docket No. FAA-2018-0598; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Kuethe Harmon, Safety Management Program Manager, DSCO Branch, FAA, 10101 Hillwood Pkwy., Fort Worth, TX 76177; telephone 817-222-5198; email: Kuethe.Harmon@faa.gov.

SUPPLEMENTARY INFORMATION:

Comments Invited

The FAA invites you to send any written relevant data, views, or arguments about this proposal. Send your comments to an address listed under the ADDRESSES section. Include “Docket No. FAA-2018-0598; Product Identifier 2018-SW-030-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA proposes to adopt a new AD for certain Bell Model 204B, 205A, 205A-1, 205B, 212, 214B, 214B-1, 412, 412CF, and 412EP helicopters. This proposed AD was prompted by a series of service bulletins issued by Bell, reporting an issue with certain comfort clips part-numbers (P/Ns) D7LZ-6560286-A, D7LZ-6560286-B, and 504636-401, which are installed on seat belt assemblies. A design review by Leonardo S.p.A Helicopter (formerly Agusta S.p.A., Finmeccanica S.p.A.) indicates the use of the affected comfort clips could jeopardize, in cases of impact or deceleration, the correct functionality of the seat belt or the seat belt inertia reel.

Bell Model 204B, 205A, 205A-1, 205B, and 212 helicopters were not delivered with comfort clips, but due to design similarity, the FAA has included them in this proposed AD because owners/operators may install the comfort clips post-delivery. Bell consequently reported in its service bulletins that it will stop delivering and selling the comfort clips.

The actions of this proposed AD are intended to prevent the seat belt from locking, potentially resulting in injury to the occupant during an emergency landing.

Related Service Information

The FAA reviewed Bell Alert Service Bulletin (ASB) 204B-15-70 for Model 204B helicopters, Bell ASB 205-15-113 for Model 205A and 205A-1 helicopters, Bell ASB 205B-15-66 for Model 205B helicopters, Bell ASB 212-15-156 for Model 212 helicopters, Bell ASB 412-15-170 for Model 412 and 412EP helicopters, and Bell ASB 412CF-15-60 for Model 412CF helicopters, all dated January 20, 2016. The FAA also reviewed Bell ASB 214-15-76, dated January 11, 2016, for Model 214B and 214B-1 helicopters. This service information specifies removing the comfort clips from all crew and passenger seat belt assemblies.

FAA's Determination

The FAA is proposing this AD after evaluating all the relevant information and determining that the unsafe condition described previously is likely to exist or develop in other products of the same type design.

Proposed AD Requirements

This proposed AD would require, within 50 hours time-in-service (TIS), removing from service each comfort clip P/Ns D7LZ-6560286-A, D7LZ-6560286-B, and 504636-401, from the seat belt assembly and inspecting each harness for a rip and an abrasion. If there is a rip or abrasion, this proposed AD would require removing the harness from service before further flight.

After the effective date of this AD, this proposed AD would prohibit installing any comfort clip P/Ns D7LZ-6560286-A, D7LZ-6560286-B, or 504636-401 on any helicopter.

Differences Between This Proposed AD and the Service Information

The service information specifies a compliance time of within 100 flight hours or no later than February 21, 2016, and does not specify inspecting each harness for a rip or an abrasion. This proposed AD would require a compliance time of within 50 hours TIS and would require inspecting each harness for a rip or an abrasion. The FAA determined that including an inspection for harness damage is necessary to correct the unsafe condition.

Costs of Compliance

The FAA estimates that this proposed AD would affect 210 helicopters of U.S. registry. The FAA estimates that operators may incur the following costs in order to comply with this AD. Labor costs are estimated at $85 per work-hour.

Removing a comfort clip would take about 0.5 work-hour, for an estimated cost of $43 per clip.

Inspecting a harness would take about 0.25 work-hour, for an estimated cost of $21 per harness.

If required, replacing a harness would take about 1 work-hour and parts would cost about $1,050 for an estimated cost of $1,135 per harness.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Textron, Inc. (Type Certificate Previously Held by Bell Helicopter Textron, Inc.): Docket No. FAA-2018-0598; Product Identifier 2018-SW-030-AD.

(a) Comments Due Date

The FAA must receive comments by May 21, 2020.

(b) Affected ADs

None.

(c) Applicability

This AD applies to Bell Textron, Inc. (Type Certificate previously held by Bell Helicopter Textron, Inc.) Model 204B, 205A, 205A-1, 205B, 212, 214B, 214B-1, 412, 412CF, and 412EP helicopters, certificated in any category, with a shoulder harness seat belt comfort clip (comfort clip) part numbers (P/Ns) D7LZ-6560286-A, D7LZ-6560286-B, or 504636-401, installed.

(d) Subject

Joint Aircraft System Component (JASC) Code: 2500, Cabin Equipment/Furnishings.

(e) Unsafe Condition

This AD was prompted by a report of a comfort clip interfering with the seat belt inertia reel. The FAA is issuing this AD to prevent the seat belt from locking. The unsafe condition, if not addressed, could result in injury to the occupant during an emergency landing.

(f) Compliance

Comply with this AD within the compliance times specified, unless already done.

(g) Required Actions

(1) Within 50 hours time-in-service (TIS):

(i) Remove from service each comfort clip P/Ns D7LZ-6560286-A, D7LZ-6560286-B, or 504636-401 from the shoulder harness seat belt (harness).

(ii) Inspect each harness for a rip and an abrasion. If there is a rip or any abrasion, before further flight, remove from service the harness.

(2) After the effective date of this AD, do not install comfort clip P/Ns D7LZ-6560286-A, D7LZ-6560286-B, or 504636-401 on any helicopter.

(h) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i)(1) of this AD. Information may be emailed to: 9-ASW-190-COS@faa.gov.

(2) Before using any approved AMOC, notify your appropriate principal inspector, or lacking a principal inspector, the manager of the local flight standards district office/certificate holding district office.

(i) Related Information

(1) For more information about this AD, contact Kuethe Harmon, Safety Management Program Manager, DSCO Branch, FAA, 10101 Hillwood Pkwy., Fort Worth, TX 76177; telephone 817-222-5198; email kuethe.harmon@faa.gov.

(2) For service information identified in this AD, contact Bell Textron, Inc., P.O. Box 482, Fort Worth, TX 76101; telephone 817-280-3391; fax 817-280-6466; or at https://www.bellcustomer.com. You may review service information at the FAA, Office of the Regional Counsel, Southwest Region, 10101 Hillwood Pkwy., Room 6N-321, Fort Worth, TX 76177.

Issued on March 31, 2020.
Lance T. Gant,
Director, Compliance & Airworthiness Division, Aircraft Certification Service.

[FR Doc. 2020-07086 Filed 4-3-20; 8:45 am]

BILLING CODE 4910-13-P